ENVIRONMENTAL PROTECTION AGENCY

[EPA-HQ-OPP-2023-0474; FRL-11384-02-OCSPP]

Endocrine Disruptor Screening Program (EDSP); Near-Term Strategies for Implementation; Notice of Availability and Request for Comment; Extension of Comment Period

AGENCY: Environmental Protection Agency (EPA).

ACTION: Notice; extension of comment period.

SUMMARY: In the Federal Register of October 27, 2023, EPA announced the availability of and solicited comment on near-term strategies to help the Agency meet its obligations and commitments under the Federal Food, Drug, and Cosmetic Act (FFDCA), which requires, that EPA screen for and protect against endocrine disrupting effects in humans. This document extends the comment period, which was scheduled to end on December 26, 2023, for 60 days.

DATES: The comment period for the document published in the Federal Register of October 27, 2023, at 88 FR 73841 (FRL-11384-01-OCSPP) is extended. Comments must be received on or before February 26, 2023.

ADDRESSES: Submit your comments, identified by docket identification (ID) number EPA-HQ-OPP-2023-0474, through the Federal eRulemaking Portal at https://www.regulations.gov. Follow the online instructions for submitting comments. Do not submit electronically any information you consider to be Confidential Business Information (CBI) or other information whose disclosure is restricted by statute. Additional instructions on commenting and visiting the docket, along with more information about dockets generally, is available at https://www.epa.gov/dockets.

FOR FURTHER INFORMATION CONTACT: Catherine Aubee, Endocrine Disruptor Screening Program (7505T), Office of Pesticide Programs, Environmental Protection Agency, 1200 Pennsylvania Ave. NW, Washington, DC 20460-0001; main telephone number: (202) 566-1030; email address: pesticidequestions@epa.gov.

SUPPLEMENTARY INFORMATION:

To give stakeholders additional time to review materials and prepare comments, EPA is hereby extending the comment period established in the Federal Register document of October 27, 2023, at 88 FR 73841 (FRL-11884-01-OCSPP) for 60 days, from December 26, 2023, to February 26, 2023. More information on the action can be found in the Federal Register of October 27, 2023.

To submit comments or access the docket, please follow the detailed instructions provided under ADDRESSES. If you have questions, consult the technical person listed under FOR FURTHER INFORMATION CONTACT.

(Authority: 7 U.S.C. 136 et seq. and 21 U.S.C. 346a)

Dated: December 6, 2023.
Michal Freedhoff,
Assistant Administrator, Office of Chemical Safety and Pollution Prevention.

[FR Doc. 2023-27405 Filed 12-13-23; 8:45 am]

BILLING CODE 6560-50-P